DEPARTMENT OF TRANSPORTATION

Federal Aviation Administration

14 CFR Part 71

[Docket No. FAA-2020-0500; Airspace Docket No. 20-AGL-9]

RIN 2120-AA66

Proposed Amendment of V-221 and V-305 in the Vicinity of Bloomington, IN

AGENCY: Federal Aviation Administration (FAA) DOT.

ACTION: Notice of proposed rulemaking (NPRM); withdrawal.

SUMMARY: The FAA is withdrawing the NPRM published in the Federal Register on June 26, 2020, proposing to amend VHF Omnidirectional Range (VOR) Federal airways V-221 and V-305 due to the planned decommissioning of the VOR portion of the Hoosier, IN, VOR/Tactical Air Navigation (VORTAC) in support of the FAA's VOR Minimum Operational Network (MON) program. Subsequent to the NPRM, the FAA reviewed the Hoosier VOR decommissioning project and determined additional planning meetings are necessary to ensure a more efficient implementation and integration with other ongoing program activities, and determined that withdrawal of the proposed rule is warranted.

DATES: Effective as of 0901 UTC, November 4, 2020, the proposed rule published June 26, 2020 (85 FR 38343), is withdrawn.

FOR FURTHER INFORMATION CONTACT: Colby Abbott, Airspace Rules and Regulations, Office of Policy, Federal Aviation Administration, 800 Independence Avenue SW, Washington, DC 20591; telephone: (202) 267-8783.

SUPPLEMENTARY INFORMATION:

History

The FAA published a NPRM in the Federal Register for Docket No. FAA-2020-0500 (85 FR 38343; June 26, 2020). The NPRM proposed to amend VOR Federal airways V-221 and V-305 in the vicinity of Bloomington, IN, due to the planned decommissioning of the VOR portion of the Hoosier, IN, VORTAC navigation aid which provides navigation guidance for portions of the affected airways.

Interested parties were invited to participate in this rulemaking effort by submitting written comments on the proposal. No comments were received.

FAA's Conclusions

The FAA has reviewed the Hoosier VOR decommissioning project and determined that additional planning meetings are warranted to ensure a more efficient implementation and integration with other ongoing program activities; therefore, the NPRM is withdrawn.

List of Subjects in 14 CFR part 71

Airspace, Incorporation by reference, Navigation (air).

The Withdrawal

Accordingly, pursuant to the authority delegated to me, the NPRM published in the Federal Register on June 26, 2020 (85 FR 38343), FR Doc. 2020-13657, is hereby withdrawn.

Authority: 49 U.S.C. 106(f), 106(g), 40103, 40113, 40120; E.O. 10854; 24 FR 9565, 3 CFR, 1959-1963 Comp., p. 389.

Issued in Washington, DC, on October 29, 2020.
George Gonzalez,
Acting Manager, Rules and Regulations Group.

[FR Doc. 2020-24356 Filed 11-3-20; 8:45 am]

BILLING CODE 4910-13-P